DEPARTMENT OF ENERGY

Federal Energy Regulatory Commission

[Docket No. QF07-115-000]

Continental Cogeneration Services; Notice of Self-Certification of Qualifying Status of a Cogeneration Facility

June 22, 2007.

Take notice that on March 9, 2007, as completed on May 30, 2007, Continental Cogeneration Services, 964 Ebbets Ave., Manteca, California, filed with the Federal Energy Regulatory Commission a notice of self-certification of a facility as a qualifying cogeneration facility pursuant to 18 CFR 292.207(a) of the Commission's regulations.

The facility for which certification is requested is a topping-cycle cogeneration facility. The primary energy source is natural gas. The power production equipment includes a Siemens SGT6-5000F gas turbine in combined cycle, with a maximum net power production of 275 MW. The location of the facility is 12045 South Ingomar Grade, Los Banos, California.

The Name of the electric utility with which the facility expects to interconnect, transmit or sell electric energy to, or purchase supplementary, standby, back-up and maintenance power is the Pacific Gas & Electric Company (PG&E).

The applicant proposes to sell more than 50 percent of its aggregate, annual energy output to PG&E. Although the facility does not fall within the 50 percent “safe harbor” for fundamental use of energy output in 18 CFR 292.205(d)(3), the applicant argues that the facility's beneficial use of biomethane from digested cow manure as 5 percent of the fuel input is sufficient to meet the requirements of 18 CFR 292.205(d)(2).

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible on-line at http://www.ferc.gov., using the “eLibrary” link and is available for review in the Commission's Public Reference Room in Washington, DC. There is an “eSubscription” link on the Web site that enables subscribers to receive e-mail notification when a document is added to a subscribed docket(s). For assistance with any FERC Online service, please e-mail FERCOnlineSupport@ferc.gov., or call (866) 208-3676 (toll free). For TTY, call (202) 502-8659.

Kimberly D. Bose,
Secretary.

[FR Doc. E7-12614 Filed 6-28-07; 8:45 am]

BILLING CODE 6717-01-P